NATIONAL SCIENCE FOUNDATION

Advisory Committee for International Science and Engineering; Notice of Meeting

In accordance with Federal Advisory Committee Act (Pub. L. 92-463, as amended), the National Science Foundation announces the following meeting:

Name: Advisory Committee for International Science and Engineering (25104).

Date/Time: June 9, 2008; 8 a.m. to 6 p.m.

Place: National Science Foundation, 4201 Wilson Boulevard, Room 375, Arlington, VA.

Type of Meeting: Open.

Contact Person: Eduardo Feller, National Science Foundation, 4201 Wilson Boulevard, Arlington, VA 22230 (703) 292-8710.

If you are attending the meeting and need access to the NSF, please contact the individual listed above so you name may be added to the building access list.

Purpose of Meeting: To provide advice concerning issues related to the international science and engineering programs and initiatives of the NSF.

Agenda: Update on Program and Staff Activities. Discussion of Proposed International Policies and Practices and Draft Strategic Plan. NSB Report on International Science and Engineering Partnerships. Update on Developing Countries Initiatives. Committee of Visitors Report. Partnerships for International Research and Education.

Dated: May 2, 2008.
Susanne Bolton,
Committee Management Officer.

[FR Doc. E8-10036 Filed 5-6-08; 8:45 am]

BILLING CODE 7555-01-P